DEPARTMENT OF DEFENSE

Department of the Army, Corps of Engineers

Notice of Intent To Prepare an Environmental Impact Statement and Conduct Scoping Meeting for the Berths 212-224 [YTI] Container Terminal Project at the Port of Los Angeles, Los Angeles County, California (SPL-2013-0113-TS)

AGENCY: U.S. Army Corps of Engineers, DoD.

ACTION: Notice of Intent.

Authority: 33 U.S.C. 403; 33 U.S.C. 1344; 33 U.S.C. 1413.

SUMMARY: The purpose of this notice is to initiate the scoping process for preparation of an Environmental Impact Statement (EIS) for the Los Angeles Harbor Department (LAHD) Berths 212-224 [YTI] Container Terminal Improvement Project.

DATES: Submit comments concerning this notice on or before May 6, 2013. A public scoping meeting will be held on April 23, 2013 at 6:00 p.m. (PST).

ADDRESSES: The scoping meeting location is: Los Angeles Harbor Department, Board of Harbor Commissioners Hearing Room, 425 S. Palos Verdes Street, San Pedro, CA 90731.

Mail written comments concerning this notice to: U.S. Army Corps of Engineers, Los Angeles District, Regulatory Division, Ventura Field Office, ATTN: SPL-2013-00113-TS, 2151 Alessandro Drive, Suite 110, Ventura, CA 93001. Comment letters should include the commenter's physical mailing address, the project title and the Corps file number in the subject line.

FOR FURTHER INFORMATION CONTACT: Theresa Stevens, Ph.D., U.S. Army Corps of Engineers, Los Angeles District, Regulatory Division, Ventura Field Office, ATTN: SPL-2013-00113-TS, 2151 Alessandro Drive, Suite 110, Ventura, CA 93001, (805) 585-2146, theresa.stevens@usace.army.mil.

SUPPLEMENTARY INFORMATION: In accordance with the National Environmental Policy Act (NEPA), the Corps is requiring the preparation of an Environmental Impact Statement (EIS) prior to any permit action. The Corps may ultimately make a determination to permit or deny the proposed project or a modified version of the proposed project. The primary Federal concerns are dredging, dredged material disposal, addition of permanent structures in and over navigable waters of the U.S., and transport of dredged material for the purpose of ocean disposal.

Pursuant to the California Environmental Quality Act (CEQA) the LAHD will serve as Lead Agency in preparing an Environmental Impact Report (EIR) for its consideration of development approvals within its jurisdiction. The Corps and LAHD have agreed to jointly prepare a Draft EIS/EIR to optimize efficiency and avoid duplication. The Draft EIS/EIR is intended to be sufficient in scope to address the Federal, state and local requirements and environmental issues concerning the proposed activities and permit approvals.

1. Project Site and Background Information. The project site is located on Terminal Island within in an industrial area of the East Basin region of the Port of Los Angeles. The site is within the Port of Los Angeles Community Plan area in the City of Los Angeles, adjacent to the communities of San Pedro and Wilmington, and approximately 20 miles south of downtown Los Angeles. The purpose of the project is to improve marine shipping and maritime commerce by optimizing the container-handling efficiency and capacity at Berths 212-224, accommodate berthing and loading/unloading the largest container ships, and increase on-dock rail facilities to accommodate projected peak increases in container movement into and out of the terminal at Berths 212-224 resulting from the handling of larger ships.

2. Proposed Action: The LAHD has proposed to redevelop the existing container terminal at Berths 212-224. Yusen Terminals Inc. [YTI] operates the existing 185-acre container terminal under a lease agreement (LAHD Permit No. 692). The proposed project would result in dredging of approximately 25,000 cubic yards of sediment from Berths 212-224 to increase depth at existing berths; disposal of dredged material at either an offshore site (LA-2), confined disposal facility (CDF), or other approved location; wharf improvements including installation of new subsurface sheet pile and king piles to stabilize the existing wharf prior to dredging, installation of four new 100-gauge and modification (i.e., heightening, additional boom length) of six existing gantry cranes for a total of 14 operational cranes at full build-out; and backland improvements such as additional on-dock rail, paving, cold-planing, etc., on approximately 160 acres of the site.

3. Issues: Potentially significant issues associated with the project include: Aesthetics/visual impacts, air quality emissions, biological resource impacts, environmental justice, geologic impacts related to seismicity, hazards and hazardous materials, hydrology and water quality, noise, traffic and transportation, and cumulative impacts from past, present and reasonably foreseeable future projects.

4. Alternatives. The Draft EIS/EIR will include a co-equal analysis of several alternatives. Project alternatives will be further developed during this scoping process. Additional alternatives that may be developed during scoping will also be considered in the Draft EIS/EIR.

5. Scoping Process. The Corps and LAHD will jointly conduct a public scoping meeting for the proposed project to receive public comment regarding the appropriate scope and preparation of the Draft EIS/EIR. Participation by Federal, state, and local agencies and other interested organization and persons is encouraged. This meeting will be conducted in English and Spanish.

6. Electronic Access and Filing Addresses: Comments may be submitted by electronic mail (email) to: theresa.stevens@usace.army.mil. Electronic mail comments should include the commenter's physical or electronic mailing address, the project title and the Corps file number.

7. The Draft EIS/EIR is expected to be available for public review and comment in the fall 2013, and a public meeting will be held after its publication.

Dated: March 19, 2013.
David J. Castanon,
Chief, Regulatory Division.

[FR Doc. 2013-07968 Filed 4-4-13; 8:45 am]

BILLING CODE 3720-58-P